ENVIRONMENTAL PROTECTION AGENCY

[ER-FRL-6680-2]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167.

An explanation of the ratings assigned to draft environmental impact statements (EISs) was published in FR dated April 7, 2006 (71 FR 17845).

Draft EISs

EIS No. 20060084, ERP No. D-AFS-K65302-CA, Commercial Park Stock Permit Reissuance for the Sierra National Forest and Trail Management Plan for the Dinkey Lakes Wilderness, Application Reissuance Special-Use-Permit, Mariposa, Madera and Fresno Counties, CA.

Summary: EPA expressed environmental concerns about the adverse impacts of sediment and manure to water quality. Alternative 3—Destination Management offers the best remedy and should be given additional consideration. The final EIS should include a detailed monitoring and enforcement plan.

Rating EC2.

EIS No. 20060181, ERP No. D-BLM-K08031-00, Devers-Palo Verde No. 2 Transmission Line Project, Construction and Operation a New 230-mile 500 kV Electric Transmission Line between Devers Substation in California and Harquahala Generating Substation in Arizona.

Summary: EPA expressed environmental concerns with potential impacts to wetlands and air quality. The final EIS should include a more detailed discussion of cumulative impacts to air quality and riparian habitat.

Rating EC2.

EIS No. 20060321, ERP No. D-AFS-K65318-CA, Diamond Vegetation Management Project, To Shift Existing Conditions Toward Desired Future Conditions, MT. Hough Ranger District, Plumas National Forest, Plumas County, CA.

Summary: EPA expressed environmental concerns about impacts to water quality and requested additional information on cumulative watershed effects in Riparian Habitat Conservation Areas. The final EIS should include mitigation measures to further reduce erosion from roads, stream bank instability and channel erosion.

Rating EC2.

Final EISs

EIS No. 20060281, ERP No. F-NPS-K39095-CA, Furnace Creek Water Collection System, Reconstruction, Death Valley National Park, Implementation, Inyo County, CA.

Summary: The Final EIS addressed EPA's concerns with a discharge of reverse osmosis residuals into Furnace Creek; therefore, EPA has no objections to the project.

EIS No. 20060288, ERP No. F-FTA-K54030-CA, Warm Springs Extension, Proposing 5.4 mile Extension of the BART System in the City of Fremont, Funding, San Francisco Bay Area Rapid Transit District, Alameda County, CA.

Summary: No formal comment letter was sent to the preparing agency.

EIS No. 20060367, ERP No. F-FHW-J40172-UT, Syracuse Road 1000 West to 2000 West, Transportation Improvements, Funding and U.S. Army COE Section 404 Permit, Syracus City, Davis County, UT.

Summary: No formal comment letter was sent to the preparing agency.

Dated: October 10, 2006.
Ken Mittelholtz,
Environmental Protection Specialist, Office of Federal Activities.

[FR Doc. E6-17014 Filed 10-12-06; 8:45 am]

BILLING CODE 6560-50-P